DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by April 2, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: National Visitor Use Monitoring, and Customer and Use Survey Techniques for Operations, Management, Evaluation, and Research.

OMB Control Number: 0596-0110.

Summary of Collection: The Forest Service regularly collaborates with the other land management agencies in the areas of visitor monitoring and visitation estimation. Forest Service requests the revision and extension of the National Visitor Use Monitoring (NVUM) survey. The NVUM sampling protocol and survey instrument are designed to estimate the number of individuals who visit lands in the National Forest System (NFS).

Recreation is a key output identified in the Forest Service's strategic plan and in the National Forest Management Act. Credible science-based estimates of recreation visitation on national forests provided by this collection are critical elements of agency performance reporting, budgeting, and resource planning. The NVUM data is used to track the agency's progress for the Forest Service's Performance Accountability Rating Tool (PART) documentation. The Government Performance and Results Act of 1993 (GPRA) requires that Federal agencies establish measurable goals and monitor their success at meeting those goals. Also, the information collected is used when the Forest Service reports to Congress regarding the agency's effectiveness in utilizing appropriated funds.

Need and Use of the Information: The information collection addresses two specific performance elements for the Forest Service: (1) the quantity of recreation visitation to the National Forest System, including wilderness areas managed by the agency and (2) the level of customer satisfaction with recreation opportunities. Also, NVUM results and data are a source of data and information in addressing forest land management planning, facility master planning, regional- and local-level agency-mandated business planning, national strategic planning, civil rights issues regarding service to minorities, and identification of a national forest's recreation niche. Conducting the collection less frequently puts information updates out of cycle with forest planning and other data preparations and reporting activities.

Description of Respondents: Individuals or households.

Number of Respondents: 45,000.

Frequency of Responses: Reporting; Quarterly; Annually.

Total Burden Hours: 5,870.

Forest Service

Title: Small Business Timber Set-Aside Program: Appeal Procedures on Recomputation of Shares.

OMB Control Number: 0596-0141.

Summary of Collection: The Forest Service (FS) administers the Small Business Timber Sale Set-Aside Program in cooperation with the Small Business Administration (SBA) under the authorities of the Small Business Act (15 U.S.C. 631), which establishes Federal policy regarding assistance provided to small businesses; the National Forest Management Act of 1976; the Administrative Procedures Act (5 U.S.C. 522); and SBA's regulations found at 13 CFR part 121. The Set-Aside Program is designed to ensure that qualifying small business manufacturers can purchase a fair portion of National Forest System sawtimber offered for sale.

Need and Use of the Information: Under the program, the FS must re-compute the shares of timber sales to be set aside for qualifying small businesses every five years based on the actual volume of sawtimber purchased by small businesses. Re-computation of shares must occur if there is a change in manufacturing capability, if the purchaser size class changes, or if certain purchaser(s) discontinue operations. The appeal information is collected in writing and is possible, in most locations to be sent via email and attached documents to a Forest Service Officer. The collected information is reviewed by FS officials who use the information to render decisions related to re-computations of timber sale share to be set-aside for small business timber purchasers.

Description of Respondents: Business or other for-profit.

Number of Respondents: 20.

Frequency of Responses: Reporting: On occasion.

Total Burden Hours: 200.

Forest Service

Title: Non-Timber Forest Products Generic for Surveys, Interviews, and Focus Groups.

OMB Control Number: 0596-243.

Summary of Collection: Many laws and policies specifically direct the USDA Forest Service (FS) to consider and manage for non-timber forest products for the benefit of the American public and to meet trust responsibilities to American Indians and Alaskan Natives on Federal and Tribal lands. Primary authorities to collect information include the Multiple-Use Sustained-Yield Act of 1960 that requires the FS to manage national forests “under principles of multiple use and to produce a sustained yield of products and services.” The Forest and Rangeland Renewable Resources Planning Act of 1974 requires the Secretary of Agriculture to “maintain a comprehensive inventory of renewable resources and evaluate opportunities to improve their yield of goods and services. The 2012 Planning Rule specifically requires “consideration of habitat conditions for wildlife, fish, and plants commonly enjoyed and used by the public for hunting, fishing, trapping, gathering, observing, and subsistence” on national forests.

Need and Use of the Information: Surveys, interviews, and focus groups administered under this generic collection will be designed to collect information from individuals and groups who forage for non-timber forest products and from natural resource professionals who manage land where non-timber forest products foraging takes place. Non-timber forest products harvested for use as food, medicine, and other purposes are plants, mushrooms, and plant- or tree-derived goods like nuts, boughs, sap, and leaves. The FS and other land management agencies will not have a scientific basis for managing non-timber forest product resources and the lands that support them without this information. Also, FS will not have the necessary information to provide technical advice on this issue to other land management agencies and individuals.

Description of Respondents: Individuals or households; Non-profit organizations and State, Local and Tribal government.

Number of Respondents: 1,560.

Frequency of Responses: Reporting: One time.

Total Burden Hours: 828.

Levi S. Harrell,
Departmental Information Collection Clearance Officer.

[FR Doc. 2025-03333 Filed 2-28-25; 8:45 am]

BILLING CODE 3411-15-P